FEDERAL COMMUNICATIONS COMMISSION

47 CFR Part 73

[DA 04-3009; MB Docket No. 04-368, RM-11067; MB Docket No. 04-369, RM-11068]

Radio Broadcasting Services; Alamogordo, NM; and Grayville, IL

AGENCY: Federal Communications Commission.

ACTION: Proposed rule.

SUMMARY: This document proposes two new allotments in Grayville, Illinois and Alamogordo, New Mexico. The Audio Division requests comment on a petition filed by Linda A. Davidson proposing the allotment of Channel 229A at Grayville, as the community's first local service. Channel 229A can be allotted to Grayville in compliance with the Commission's minimum distance separation requirements with a site restriction of 13.0 kilometers (8.1 miles) northwest of the community. The reference coordinates for Channel 229A at Grayville, Illinois are 38-21-56 North Latitude and 88-03-38 West Longitude.

The Audio Division also requests comments on a petition filed by Daniel R. Feely proposing the allotment of Channel 240C2 at Alamogordo, New Mexico, as the community's fifth FM commercial aural transmission service. Channel 240C2 can be allotted to Alamogordo in compliance with the Commission's minimum distance separation requirements with a site restriction of 10.4 kilometers (6.5 miles) southeast of the community. The reference coordinates for Channel 240C2 at Alamogordo are 32-49-04 North Latitude and 105-54-19 West Longitude. Because the proposed site is within 320 kilometers (200 miles) of the Mexican border, concurrence of the Mexican government has been requested for the allotment.

DATES: Comments must be filed on or before November 15, 2004, and reply comments on or before November 30, 2004.

ADDRESSES: Secretary, Federal Communications Commission, 445 Twelfth Street, SW., Washington, DC. 20554. In addition to filing comments with the FCC, interested parties should serve the petitioners, as follows: Linda A. Davidson, 2134 Oak Street, Unit C, Santa Monica, California, 90405 regarding the proposal to allot Channel 229A Grayville, Illinois, RM-11067 and Daniel R. Feely, 682 Palisade Street, Pasadena, California, 91103 regarding the proposal to allot Channel 240C2 Alamogordo, New Mexico, RM-11068.

FOR FURTHER INFORMATION CONTACT: Helen McLean, Media Bureau, (202) 418-2738.

SUPPLEMENTARY INFORMATION: This is a synopsis of the Commission's Notice of Proposed Rule Making, MB Docket Nos. 04-368, 04-369, adopted September 22, 2004 and released September 24, 2004. The full text of this Commission decision is available for inspection and copying during normal business hours at the FCC's Reference Information Center at Portals II, 445 Twelfth Street, SW., Room CY-A257, Washington, DC 20554. The complete text of this decision may also be purchased from the Commission's duplicating contractor, Best Copy and Printing, Inc., 445 12th Street, SW., Room CY-B402, Washington, DC, 20554, telephone 1-800-378-3160, or www.BCPIWEB.com.

Provisions of the Regulatory Flexibility Act of l980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by adding Grayville, Channel 229A.

3. Section 73.202(b), the Table of FM Allotments under New Mexico, is amended by adding Channel 240C2 at Alamogordo.

Federal Communications Commission.
John A. Karousos,
Assistant Chief, Audio Division, Media Bureau.

[FR Doc. 04-22754 Filed 10-7-04; 8:45 am]

BILLING CODE 6712-01-P